DEPARTMENT OF THE INTERIOR

Bureau of Land Management

[OR-027-1020-PI-020H; HAG-08-0041]

Notice of Solicitation of Applications for the Steens Mountain Advisory Council

AGENCY: Bureau of Land Management, Interior.

ACTION: Notice: Solicitation of Applications.

SUMMARY: The Bureau of Land Management is requesting public applications to fill four expired terms on the Steens Mountain Advisory Council. Applications will be accepted for a person who is a local environmental representative, a person who is a grazing permittee in the Steens Mountain Cooperative Management and Protection Area, a person with expertise and interest in wild horse management, and a person who is a member of the dispersed recreation community on the Steens Mountain.

DATES: Send all applications to the address listed below no later than February 19, 2008.

ADDRESSES: Applicants can obtain application forms from Kevin Thissell, Temporary Steens Mountain Advisory Council Coordinator, Burns District Office, 28910 Hwy 20 West, Hines, Oregon 97738, (541) 573-4541, or Kevin_Thissell@blm. gov. Send all application materials to this address prior to the closing date listed above.

SUPPLEMENTARY INFORMATION: The Steens Mountain Advisory Council advises the Bureau of Land Management on the management of the Steens Mountain Cooperative Management and Protection Area as described in Public Law 106-399. Each member will be a person who, as a result of training and experience, has knowledge or special expertise that qualifies him or her to provide advice from the categories of interest identified above.

These positions will be for the full term of 3 years, expiring in October of 2011.

The Steens Mountain Advisory Council members serve without monetary compensation, but are reimbursed for travel and per diem expenses at current rates for government employees. The Steens Mountain Advisory Council meets only at the call of the Designated Federal Official, but not less than once per year.

The following must accompany all applications: A completed background information application form; letters of reference from the constituency to be represented; and any other information that details the applicant's qualifications.

The letter of application should specify the category the applicant would like to represent. Application forms and letters of reference will be reviewed by the County Court of Harney County and the Bureau of Land Management. The Bureau of Land Management will then forward recommended nominations to the Secretary of the Interior, who has responsibility for making the appointments.

Dated: January 11, 2008.
Dana R. Shuford,
District Manager.

[FR Doc. 08-174 Filed 1-16-08; 8:45 am]

BILLING CODE 4310-33-M